SOCIAL SECURITY ADMINISTRATION

[Docket No. SSA-2009-0007]

Maximum Dollar Limit in the Fee Agreement Process

AGENCY: Social Security Administration (SSA).

ACTION: Notice.

SUMMARY: We are increasing the maximum dollar amount limit for fee agreements approved under sections 206(a)(2)(A) and 1631(d)(2)(A) of the Social Security Act to $6,000. Effective June 22, 2009, decision-makers may approve fee agreements up to the new limit provided that the fee agreement otherwise meets the statutory conditions of the agreement process.

FOR FURTHER INFORMATION CONTACT: Marg Handel, Office of Income Security Programs, phone (410) 965-4639, e-mail: marg.handel@ssa.gov.

SUPPLEMENTARY INFORMATION: The Social Security Act (Act) provides a streamlined process for a representative to obtain approval of the fee he or she wishes to charge for representing a claimant before the agency. See, §§ 206(a)(2)(A) and 1631(d)(2)(A) of the Act, as amended by the Omnibus Budget Reconciliation Act (OBRA) of 1990, Public Law No. 101-508, § 5106. To use that process, the representative and the claimant must agree, in writing, to a fee that does not exceed the lesser of 25% of past due benefits or a prescribed dollar amount. OBRA of 1990 set the initial fee amount at $4,000 and gave the Commissioner the authority to increase it periodically, provided that the cumulative rate of increase did not at any time exceed the rate of increase in primary insurance amounts since January 1, 1991. The law further provided that notice of any increased amount shall be published in the Federal Register. On January 17, 2002, we published a notice raising the maximum fee to $5,300. With this notice, we announce that the maximum dollar amount for fee agreements will increase to $6,000. This increase does not exceed the rate of increase provided in OBRA of 1990. We believe this increase will adequately compensate representatives for their services while ensuring that claimants are protected from excessive fees. A decision-maker may approve fees up to the new amount effective June 22, 2009. This effective date will ensure adequate time to provide training and guidance to our employees and to make necessary changes in our information technology infrastructure.

Dated: January 29, 2009.
Michael J. Astrue,
Commissioner of Social Security.

[FR Doc. E9-2332 Filed 2-3-09; 8:45 am]

BILLING CODE 4191-02-P